DEPARTMENT OF ENERGY

Federal Energy Regulatory Commission

Notice of Scoping Meetings and Site Visit and Solicitation of Scoping Comments

April 26, 2002.

Take notice that the following hydroelectric application has been filed with the Commission and is available for public inspection.

a. Type of Application: New Major License.

b. Project No.: 233-081.

c. Date Filed: October 19, 2001.

d. Applicant: Pacific Gas and Electric Company.

e. Name of Project: Pit 3, 4, and 5 Hydroelectric Project.

f. Location: On the Pit River, in Shasta County, near the community of Burney and the Intermountain towns of Fall River Mills and McArthur, California. The project includes 746 acres of lands of the United States, which are administered by the Forest Supervisor of the Shasta Trinity National Forest and the Forest Supervisor of the Lassen National Forest.

g. Filed Pursuant to: Federal Power Act 16 U.S.C. 791(a)-825(r).

h. Applicant Contact: Mr. Randal Livingston, Lead Director, Hydro Generation Department, Pacific Gas and Electric Company, P.O. Box 770000, N11C, San Francisco, CA 94177, (415) 973-6950.

i. FERC Contact: John Mudre, (202) 219-1208 or john.mudre@ferc.gov.

j. Deadline for filing scoping comments: June 24, 2002.

All documents (original and eight copies) should be filed with Magalie R. Salas, Secretary, Federal Energy Regulatory Commission, 888 First Street, NE., Washington, DC 20426. Scoping comments may be filed electronically via the Internet in lieu of paper. See 18 CFR 385.2001(a)(1)(iii) and the instructions on the Commission's web site (http://www.ferc.gov) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Pit 3, 4, 5 Project consists of three hydraulically-connected developments, with a total of four dams, four reservoirs, three powerhouses, associated tunnels, surge chambers and penstocks. The powerhouses contain nine generating units with a combined operating capacity of about 325 MW. No new construction is proposed.

The Pit 3 development consists of: 1) the 1,293-acre Pit 3 Reservoir, known as Lake Britton, with a gross storage capacity of 41,877 acre-feet at elevation 2,737.5 feet National Geodetic Vertical Datum (NGVD) and a useable capacity of 14,443 acre-feet; 2) the Pit 3 Dam, a concrete gravity structure with a crest length of 494 feet and a maximum height of 130 feet, which includes a 254-foot-wide ogee spillway with three bays that contain six-foot-high inflatable rubber gates and three low level outlets each with a 7-foot by 7-foot gate; 3) a reinforced concrete intake structure located upstream of the dam with steel trashracks and two 8-foot-wide by 18-foot-high slide gates; 4) a 19-foot-diameter concrete tunnel in two sections, with a total length of 21,203 feet; 5) a surge chamber that ranges from 64 to 94 feet in diameter and has a 10-foot-diameter riveted steel overflow pipe that extends to the river; 6) three penstocks, 9 to 11 feet in diameter and 600 feet in length; 7) an 84-feet by 194-foot reinforced concrete, multi-level powerhouse; 8) three generating units, driven by three vertical Francis turbines, each with a normal operating capacity of 23.3 MW for a total capacity of 69.9 MW; and 9) appurtenant facilities. One of the low level sluices has been modified to provide a minimum flow release.

The Pit 4 development consists of: (1) The 105-acre Pit 4 Reservoir, with a gross storage capacity of 1,970 acre-feet at elevation 2,422.5 feet NGVD and a useable storage of 1,382 acre-feet; (2) The Pit 4 Dam, consisting of a gravity-type overflow section, including a spillway with two drum gates, three 7-foot-wide by 7-foot-high low level sluice gates, and a 42-inch-diameter minimum flow outlet, 213 feet in length with a maximum height of 108 feet, and a slab-and-buttress-type section, 202 feet in length with a maximum height of 58 feet; (3) A reinforced concrete intake structure located upstream of the dam with steel trashracks and one 15-foot-wide by 19-foot-high roller gate; (4) A 19-foot-diameter pressure tunnel with a total length of 21,408 feet; (5) Two 12-foot-diameter, riveted pipe penstocks, 780 feet in length, that taper to 9 feet in diameter; (6) A 63-foot-diameter reinforced concrete surge chamber with a 16-foot-diameter central riser; (7) A four-level, 84.5-foot by 155-foot steel-framed, reinforced concrete powerhouse; 8) two generating units, driven by two vertical Francis turbines, each with a combined normal operating capacity of 47.5 MW for a total capacity of 95 MW; and (9) Appurtenant facilities.

The Pit 5 development consists of: (1) The 32-acre Pit 5 Reservoir, with a gross storage capacity of 314 acre-feet at elevation 2,040.5 feet NGVD and a useable storage capacity of 202 acre-feet; (2) The Pit 5 Dam, with a concrete gravity overflow structure 340 feet in length and a maximum height of 67 feet which includes four spill bays with 50-foot-wide by 26.3-foot-high steel wheel gates and a 30-inch diameter outlet for minimum flow releases; (3) A reinforced concrete intake structure located upstream of the dam with steel trashracks and a 15-foot-wide by 19-foot-high gate; (4) The 19-foot-diameter Tunnel No. 1 with a length of 5,109 feet; (5) The 48-acre Pit 5 Tunnel Reservoir (also known as the Open Conduit), with a gross storage capacity of 1,044 acre-feet at elevation 2,040.5 feet NGVD and a useable storage capacity of 645 acre-feet; (6) The Pit 5 Tunnel Reservoir Dam, a compacted earth fill embankment structure that is approximately 3,100 feet long and 66 feet high, and includes a reinforced concrete, siphon spillway with six 8-foot-wide by 3.5-foot-high barrels and a separate 30-inch diameter outlet pipe to drain the reservoir; (7) The 19-foot-diameter Pit 5 Tunnel No. 2 consisting of circular and horseshoe-shaped sections with a total length of 23,149 feet; (8) A reinforced concrete surge chamber that varies from 40 to 88 feet in diameter and has a 16-foot-diameter central riser; (9) Four penstocks that range from 7.5 to 9 feet in diameter that are 1,380 feet in length; (10) A 90-foot by 266.5-foot steel-framed, reinforced concrete, multi-level powerhouse; (11) Four generating units, driven by four vertical Francis turbines, each with a combined normal operating capacity of 40 MW for a total capacity of 160 MW; and 12) appurtenant facilities. The outlet of Tunnel No. 1 and the inlet for Tunnel No. 2 are located in the bed of the Tunnel Reservoir.

m. A copy of the application is on file with the Commission and is available for public inspection. This filing may also be viewed on the web at http://www.ferc.gov using the “RIMS” link-select “Docket #” and follow the instructions (call 202-208-2222 for assistance). A copy is also available for inspection and reproduction at the address in item h above.

n. Scoping Process: The Commission intends to prepare an Environmental Assessment (EA) on the project in accordance with the National Environmental Policy Act. The EA will consider both site-specific and cumulative environmental impacts and reasonable alternatives to the proposes action.

Scoping Meetings

The Commission will hold three scoping meetings to solicit your comments, oral and written, on Scoping Document 1 and the overall scope of the EA. Two evening meetings will be held. The first evening meeting will be held on May 22, 2002, from 7:00 p.m. to 9:00 p.m. at the Burney Community Center at 37477 Main Street, Burney, California 96013. The second evening meeting will be held on May 23, 2002, from 7:00 p.m. to 9:00 p.m. at the Big Bend Community Center at 30284 Hot Springs Row, Big Bend, California 96011. A morning meeting will be held on May 23, 2002, from 9:30 a.m. to noon at the Best Western Hilltop Inn, 2300 Hilltop Drive, Redding, California 96002. We invite all interested agencies, non-governmental organizations, Native American tribes, and individuals to attend one or more of the meetings.

At the scoping meetings, the staff will (1) summarize the environmental issues tentatively identified for analysis in the EA; (2) solicit from the meetings participants all available information, especially quantifiable data, on the resources at issue; (3) encourage statements from experts and the public in issues that should by analyzed in the EA, including viewpoints in opposition to, or in support of, the staff's preliminary views; (4) determine the resource issues to be addressed in the EA; and (5) identify those issues that require a detailed analysis, as well as those issues that do not require a detailed analysis.

The meetings will be recorded by a stenographer and will become part of the formal record for this Commission proceeding.

Individuals, organizations, and agencies with environmental expertise and concerns are encouraged to attend the meetings and assist the staff in defining and clarifying the issues to be addressed in the EA.

Site Visit

We also will visit the project site on May 22, 2002, at 8 a.m., meeting at the Jamo Boat Launch, off of High 89 at Lake Britton; the public is invited to attend. Individuals attending the site visit should provide their own transportation and bring a lunch. Anyone with questions about the site visit should contact Mr. Jim Holeman of PG&E at (415) 973-6891.

Magalie R. Salas,
Secretary.

[FR Doc. 02-10862 Filed 5-1-02; 8:45 am]

BILLING CODE 6717-01-P